DEPARTMENT OF COMMERCE

Foreign-Trade Zones Board

[B-27-2019]

Foreign-Trade Zone 124—Gramercy, Louisiana; Application for Subzone, Offshore Energy Services, Inc.; Broussard, Louisiana

An application has been submitted to the Foreign-Trade Zones (FTZ) Board by the Port of South Louisiana, grantee of FTZ 124, requesting subzone status for the facility of Offshore Energy Services, Inc., located in Broussard, Louisiana. The application was submitted pursuant to the provisions of the Foreign-Trade Zones Act, as amended (19 U.S.C. 81a-81u), and the regulations of the FTZ Board (15 CFR part 400). It was formally docketed on April 15, 2019.

The proposed subzone (58.2 acres) is located at 5900 Highway 90 in Broussard (Lafayette Parish), Louisiana. A notification of proposed production activity has been submitted and is being processed under 15 CFR 400.37 (Doc. B-14-2019).

In accordance with the FTZ Board's regulations, Camille Evans of the FTZ Staff is designated examiner to review the application and make recommendations to the FTZ Board.

Public comment is invited from interested parties. Submissions shall be addressed to the FTZ Board's Executive Secretary at the address below. The closing period for their receipt is May 28, 2019. Rebuttal comments in response to material submitted during the foregoing period may be submitted during the subsequent 15-day period to June 12, 2019.

A copy of the application will be available for public inspection at the Office of the Executive Secretary, Foreign-Trade Zones Board, Room 21013, U.S. Department of Commerce, 1401 Constitution Avenue NW, Washington, DC 20230-0002, and in the “Reading Room” section of the FTZ Board's website, which is accessible via www.trade.gov/ftz.

For further information, contact Camille Evans at Camille.Evans@trade.gov or (202) 482-2350.

Dated: April 15, 2019.
Andrew McGilvray,
Executive Secretary.

[FR Doc. 2019-07803 Filed 4-17-19; 8:45 am]

BILLING CODE 3510-DS-P